DEPARTMENT OF ENERGY

Federal Energy Regulatory Commission

[Project No. 14633-000]

New England Hydropower Company, LLC; Notice of Preliminary Permit Application Accepted for Filing and Soliciting Comments, Motions To Intervene, and Competing Applications

On September 5, 2014, the New England Hydropower Company, LLC, filed an application for a preliminary permit, pursuant to section 4(f) of the Federal Power Act (FPA), proposing to study the feasibility of the Albion Dam Hydroelectric Project (Albion Project or project) to be located on Blackstone River, near Cumberland and Lincoln, Providence County, Rhode Island. The sole purpose of a preliminary permit, if issued, is to grant the permit holder priority to file a license application during the permit term. A preliminary permit does not authorize the permit holder to perform any land-disturbing activities or otherwise enter upon lands or waters owned by others without the owners' express permission.

The proposed project would consist of the following: (1) An existing 25-foot-high, 400-foot-long granite and stone masonry dam with a 300-foot-long stone masonry spillway; (2) an existing 55-acre impoundment with a normal storage capacity of 235 acre-feet at an operating elevation of about 87.5 feet national geodetic vertical datum; (3) a new 35-foot-long, 11.3-foot-wide, and 4-foot-deep intake canal; (4) two new 6-foot-high, 8-foot-wide hydraulically-powered sluice gates, with a new 6-foot-high, 9-foot-wide trashrack with 6-inch bar spacing; (5) a new 56-foot-long, 7.7-foot-wide Archimedes screw generator unit, with an installed capacity of 200 kilowatts; (6) a new 10-foot-high, 12-foot-long, 18-foot-wide concrete powerhouse containing the generator and a new gearbox and electrical controls; (7) a new above ground 480-foot-long, 13.8-kilovolt transmission line connecting the powerhouse to the distribution system owned by Narragansett Electric Company; and (8) appurtenant facilities. The estimated annual generation of the proposed Albion Project would be about 1,226 megawatt-hours. The existing Albion Dam and appurtenant works are owned by Rhode Island Department of Transportation.

Applicant Contact: Mr. Michael C. Kerr, P.O. Box 5524, Beverly Farms, MA 01915; phone: (978) 360-2547.

FERC Contact: John Ramer; phone: (202) 502-8969 or email: john.ramer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14633-000.

More information about this project, including a copy of the application, can be viewed or printed on the “eLibrary” link of Commission's Web site at http://www.ferc.gov/docs-filing/elibrary.asp. Enter the docket number (P-14633) in the docket number field to access the document. For assistance, contact FERC Online Support.

Dated: September 17, 2014.
Kimberly D. Bose,
Secretary.

[FR Doc. 2014-22648 Filed 9-23-14; 8:45 am]

BILLING CODE 6717-01-P